FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at http://www.ffiec.gov/nic/.

Unless otherwise noted, comments regarding each of these applications must be received at the Reserve Bank indicated or the offices of the Board of Governors not later than April 17, 2006.

A. Federal Reserve Bank of Boston (Richard Walker, Community Affairs Officer) P.O. Box 55882, Boston, Massachusetts 02106-2204:

1. Chicopee Bancorp, Inc., Chicopee, Massachusetts; to become a bank holding company by acquiring 100 percent of the voting shares of Chicopee Savings Bank, Chicopee, Massachusetts.

B. Federal Reserve Bank of Richmond (A. Linwood Gill, III, Vice President) 701 East Byrd Street, Richmond, Virginia 23261-4528:

1. Centra Financial Holdings, Inc., Morgantown, West Virginia; to acquire up to 100 percent of the voting shares of Smithfield State Bank of Smithfield, Pennsylvania, Smithfield, Pennsylvania.

C. Federal Reserve Bank of Atlanta (Andre Anderson, Vice President) 1000 Peachtree Street, N.E., Atlanta, Georgia 30303:

1. South Georgia Bank Holding Company, Omega, Georgia; to merge with Community National Bancorporation, and thereby indirectly acquire voting shares of Community National Bank, both of Ashburn, Georgia.

2. Southwest Capital Holdings, Inc. Fort Myers, Florida; to become a bank holding company by acquiring 100 percent of the voting shares of Southwest Capital Bank, National Association, Fort Myers, Florida.

D. Federal Reserve Bank of Minneapolis (Jacqueline G. King, Community Affairs Officer) 90 Hennepin Avenue, Minneapolis, Minnesota 55480-0291:

1. Forstrom Bancorporation Inc., Clara City, Minnesota; to acquire 100 percent of the voting shares of Yellow Medicine Bancshares, Inc., and thereby indirectly acquire voting shares of Yellow Medicine County Bank, both of Granite Falls, Minnesota.

E. Federal Reserve Bank of Dallas (W. Arthur Tribble, Vice President) 2200 North Pearl Street, Dallas, Texas 75201-2272:

1. FC Holdings, Inc., Houston, Texas; to merge with Texas National Bancshares, Inc., Tomball, Texas, and thereby indirectly acquire voting shares of Tomball Delaware Corporation, Wilmington, Delaware, and Texas National Bank, Tomball, Texas.

2. Grupo Financiero Banorte, S.A., Monterrey, Nuvevo Leon, Mexico; Banco Mercantil del Norte, S.A. Institucion de Banca Multipile, Grupo Financiero Banorte, Monterrey Nuvevo Leon, Mexico; and Banorte USA Corporation, Wilmington, Delaware; to become bank holding companies by acquiring 70 percent of the voting shares of INB Financial Corporation, McAllen, Texas, and indirectly, INB Delaware Corporation, Wilmington, Delaware, and Inter National Bank, McAllen, Texas.

Board of Governors of the Federal Reserve System, March 20, 2006.
Robert deV. Frierson,
Deputy Secretary of the Board.

[FR Doc. E6-4242 Filed 3-23-06; 8:45 am]

BILLING CODE 6210-01-S